DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605-56606 as amended November 6, 1995; and as last amended at 72 FR 57588-57589, dated October 10, 2007.)

This notice reflects organizational changes in the Health Resources and Services Administration, Office of the Administrator, Office of Communications (RA6). Specifically, this notice updates the functional statement of the Office of the Administrator, Office of Communications (RA6).

Chapter RA, Office of the Administrator

Section RA-10, Organization

The Offices under the Immediate Office of the Administrator consist of the following components:

(1) Immediate Office of the Administrator (RA);

(2) Office of Equal Opportunity and Civil Rights (RA2);

(3) Office of Planning and Evaluation (RA5);

(4) Office of Communications (RA6);

(5) Office of Minority Health and Health Disparities (RA9);

(6) Office Legislation (RAE);

(7) Office of Information Technology (RAG); and

(8) Office of International Health Affairs (RAH).

Section RA-20, Functions

Delete the functional statement for the Office of Communications (RA6) in its entirety and replace it with the following:

Office of Communications (RA6)

(1) Provides leadership and coordinates communications and public affairs activities for the Agency; (2) coordinates Agency communications activities with those of other health agencies within the Department of Health and Human Services and with field, State, local, voluntary, and professional organizations; (3) develops and implements national communications initiatives to inform and educate the public, health care professionals, policy makers, and the media; (4) coordinates, researches, writes and prepares speeches and audiovisual presentations for the HRSA Administrator and other senior HRSA staff; (5) provides communication and public affairs expertise to the Agency consistent with policy direction established by the HHS Assistant Secretary for Public Affairs; (6) develops, obtains clearance for, and publicizes press releases and media briefs, fact sheets and other news and information items describing Agency programs and services; (7) serves as Communications and Public Affairs Officer for the Agency including establishment and maintenance of productive relationships with the news media; (8) reviews and edits all Agency publications and promotional materials and oversees all Agency exhibits; (9) handles all public requests for release of HRSA information and records under the Freedom of Information Act; (10) manages the Agency Web information content, function, and design and leads the development of Agency Internet content policies; and (11) manages audio visual and multimedia activities in support of Agency communication efforts.

Section RC-30, Delegations of Authority

All delegations of authority and re-delegations of authority made to HRSA officials that were in effect immediately prior to this reorganization, and that are consistent with this reorganization, shall continue in effect pending further re-delegation.

This reorganization is effective upon the date of signature.

Dated: January 15, 2008.
Elizabeth M. Duke,
Administrator.

[FR Doc. E8-1370 Filed 1-25-08; 8:45 am]

BILLING CODE 4165-15-P